DEPARTMENT OF HEALTH AND HUMAN SERVICES

Administration for Children and Families

Submission for OMB Review; Refugee Data Submission System for Formula Funds Allocations (ORR-5) (OMB #0970-0043)

AGENCY: Office of Refugee Resettlement, Administration for Children and Families, HHS.

ACTION: Request for public comment.

SUMMARY: The Office of Refugee Resettlement (ORR), Administration for Children and Families (ACF), U.S. Department of Health and Human Services (HHS), is proposing to extend approval for data collection using the current Refugee Data Submission System for Formula Funds Allocations (ORR-5) until January 31, 2021, and revise the current form for use after Fiscal Year (FY) 2020. The revised form will collect additional client-level data.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ORR-5 is designed to satisfy the statutory requirements of the Immigration and Nationality Act (INA). Section 412(a)(3) of INA (8 U.S.C. 1522(a)(3)) requires that the Director of ORR make a periodic assessment of the needs of refugees for assistance and services and the resources available to meet those needs. ORR proposes an extension with no changes to the current form until January 31, 2021, to ensure continuous information collection for FY 2020. ORR also proposes revisions to the current form for use after FY 2020. Revisions include collecting additional client-level data elements on the ORR-5 at multiple points in time, which will allow the ORR Director to better understand client goals, services utilized, and the outcomes achieved by the population ORR serves. New data elements include additional demographics, primary goals identified and referrals made to work toward self-sufficiency, progress made toward achieving said goals, and employment status of employable refugees 12 months post-enrollment. The data collected will inform evidence-based policy making and program design. These revisions also enable ORR and states to monitor implementation of the requirements put forth in ORR Policy Letter 19-07.

Respondents: States, Replacement Designees, and the District of Columbia.

Annual Burden Estimates
Instrument | Total number of respondents | Total number of responses per respondent | Average burden hours per response | Total burden hours | Annual burden hours
Refugee Data Submission for Formula Funds Allocations (ORR-5)—Current (through January 31, 2021) | 50 | 1 | 90 | 4,500 | * 1,500
Refugee Data Submission for Formula Funds Allocations (ORR-5)—Revised | 50 | 3 | 140 | 21,000 | 7,000
* Burden is annualized over the full 3-year request period, but this form will be complete within the 1st year.

Estimated Total Annual Burden Hours: 8,500.

Authority: 8 U.S.C. 412(a)(3).

Mary B. Jones,
ACF/OPRE Certifying Officer.

[FR Doc. 2020-24398 Filed 11-3-20; 8:45 am]

BILLING CODE 4184-45-P